DEPARTMENT OF THE TREASURY

Bureau of the Fiscal Service

Proposed Collection of Information: Annual Letters—Certificates of Authority (A) and Admitted Reinsurer (B)

ACTION: Notice and request for comments.

SUMMARY: The Department of the Treasury, as part of its continuing effort to reduce paperwork and respondent burden, invites the general public and other Federal agencies to take this opportunity to comment on proposed and/or continuing information collections, as required by the Paperwork Reduction Act of 1995. Currently the Bureau of the Fiscal Service within the Department of the Treasury is soliciting comments concerning Annual Letters—Certificates of Authority (A) and Admitted Reinsurer (B).

DATES: Written comments should be received on or before December 23, 2024 to be assured of consideration.

ADDRESSES: Direct all written comments and requests for additional information to Bureau of the Fiscal Service, Bruce A. Sharp, Room #4006-A, P.O. Box 1328, Parkersburg, WV 26106-1328, or bruce.sharp@fiscal.treasury.gov.

SUPPLEMENTARY INFORMATION:

Title: Annual Letters—Certificates of Authority (A) and Admitted Reinsurer (B).

OMB Number: 1530-0014.

Abstract: The information is collected so that Treasury can make the appropriate determinations as to the renewal of the Certificates of Authority of currently certified companies and the renewal of companies currently recognized by Treasury as Admitted Reinsurers. Included in the package is the Annual Letter to Executive Officers of Surety Companies Reporting to the Treasury (A) and the Annual Letter to Executive Officers of Companies Recognized by the Treasury as Admitted Reinsurers of Surety Companies Doing Business with the United States Government (B). The Secretary of the Treasury has been given authority pursuant to 31 U.S.C. 9304-9308 to certify insurance companies wishing to write or reinsure federal surety bonds. The authority has been further codified at 31 CFR part 223.9 which specifies guidelines applicable to companies seeking certification while part 223.12 specifies requirements applicable to companies seeking recognition as an Admitted Reinsurer.

Current Actions: Extension of a currently approved collection.

Type of Review: Regular.

Affected Public: Business or other for-profit.

Estimated Number of Respondents: 341.

Estimated Time per Respondent: 18.75 hours.

Estimated Total Annual Burden Hours: 6,394.

Request for Comments: Comments submitted in response to this notice will be summarized and/or included in the request for OMB approval. All comments will become a matter of public record. Comments are invited on: 1. Whether the collection of information is necessary for the proper performance of the functions of the agency, including whether the information shall have practical utility; 2. the accuracy of the agency's estimate of the burden of the collection of information; 3. ways to enhance the quality, utility, and clarity of the information to be collected; 4. ways to minimize the burden of the collection of information on respondents, including through the use of automated collection techniques or other forms of information technology; and 5. estimates of capital or start-up costs and costs of operation, maintenance, and purchase of services to provide information.

Dated: October 18, 2024.
Bruce A. Sharp,
Bureau PRA Clearance Officer.

[FR Doc. 2024-24547 Filed 10-22-24; 8:45 am]

BILLING CODE 4810-AS-P